Notice of January 12, 2026

Continuation of the National Emergency With Respect to Energy

On January 20, 2025, by Executive Order 14156, I declared a national emergency pursuant to the National Emergencies Act (50 U.S.C. 1601 et seq.) (NEA) to deal with the unusual and extraordinary threat to the national security, foreign policy, and economy of the United States constituted by the United States' insufficient energy and critical minerals (energy) production, transportation, refining, and generation.

The United States continues to need a reliable, diversified, and affordable supply of energy to drive our Nation's manufacturing, transportation, agriculture, and defense industries, and to sustain the basics of modern life and military preparedness. However, our Nation faces inadequate energy supply and infrastructure, due not only to the harmful and shortsighted policies of the previous administration, but also to many harmful State and local policies, especially in our Nation's Northeast and West Coast. By inhibiting development of our Nation's domestic supply of energy, these policies worsened high energy prices and undermined grid reliability. Without robust development of reliable domestic energy resources, we risk leaving our Nation vulnerable to hostile foreign actors, jeopardizing our Nation's core national defense and security needs, stalling technological innovation, and deteriorating grid reliability.

The circumstances related to this emergency continue to pose an unusual and extraordinary threat to the national security, foreign policy, and economy of the United States. For this reason, the national emergency declared in Executive Order 14156 of January 20, 2025, must continue in effect beyond January 20, 2026. Therefore, in accordance with section 202(d) of the NEA (50 U.S.C. 1622(d)), I am continuing for 1 year the national emergency declared in Executive Order 14156.

This notice shall be published in the Federal Register and transmitted to the Congress.

THE WHITE HOUSE,

January 12, 2026.

[FR Doc. 2026-00732

Filed 1-13-26; 2:00 pm]

Billing code 3395-F4-P